DEPARTMENT OF COMMERCE

International Trade Administration

[A-570-848]

Notice of Extension of Time Limit of Preliminary Results of New Shipper Reviews: Freshwater Crawfish Tail Meat From the People's Republic of China

AGENCY: Import Administration, International Trade Administration, U.S. Department of Commerce.

SUMMARY: The Department of Commerce is extending the time limit of the preliminary results of the four new shipper reviews initiated on November 1, 2002 (67 FR 67822) under the antidumping duty order on freshwater crawfish tail meat from the People's Republic of China until no later than August 28, 2003. The period of review is September 1, 2001, through August 31, 2002. This extension is made pursuant to section 751(a)(2)(B)(iv) of the Tariff Act of 1930, as amended (the Act).

EFFECTIVE DATE: April 17, 2003.

FOR FURTHER INFORMATION CONTACT: Douglas Kirby or Dana Mermelstein, Office of AD/CVD Enforcement VII, Import Administration, International Trade Administration, U.S. Department of Commerce, 14th Street and Constitution Avenue, NW., Washington DC 20230; telephone: (202) 482-3782 or (202) 482-1391, respectively.

SUPPLEMENTARY INFORMATION:

Statutory Time Limits

Section 751(a)(2)(B)(iv) of the Act and section 351.214(i)(1) of the regulations require the Department to issue the preliminary results of a new shipper review within 180 days after the date on which the new shipper review was initiated, and final results of review within 90 days after the date on which the preliminary results were issued. However, if the Department determines that the issues are extraordinarily complicated, section 751(a)(2)(B)(iv) of the Act and section 351.214(i)(2) of the regulations allow the Department to extend the deadline for the preliminary results to up to 300 days after the date on which the new shipper review was initiated.

Background

The Department received timely requests for new shipper reviews of the antidumping order on freshwater crawfish tail meat from the People's Republic of China from the following: exporter Qingdao Jin Yong Xiang Aquatic Foods Co., Ltd., and its producer, Hefei Zhongbao Aquatic Co. Ltd.; producer and exporter, Hubei Qianjiang Houhu Frozen & Processing Factory; exporter Siyang Foreign Trading Corporation and its producer, Anhui Golden Bird Agricultural Products Development Co., Ltd.; and from producer and exporter, Zhoushan Huading Seafood Co., Ltd. These requests were filed in accordance with section 751(a)(2)(B) of the Act and section 351.214 of the Department's regulations. On November 1, 2002 the Department initiated these new shipper reviews covering the period September 1, 2001, through August 31, 2002. See Freshwater Crawfish Tail Meat From the People's Republic of China: Initiation of Antidumping New Shipper Reviews, 67 FR 67822 (November 7, 2002). The preliminary results of these reviews were scheduled for April 30, 2003.

Extension of Time Limits for Preliminary Results

Pursuant to section 751(a)(2)(B)(iv) of the Act, the Department may extend the deadline for completion of the preliminary results of a new shipper review if it determines that the case is extraordinarily complicated. The Department has determined that these cases are extraordinarily complicated, and the preliminary results of these new shipper reviews cannot be completed within the statutory time limit of 180 days. The Department finds that these new shipper reviews are extraordinarily complicated because there are a number of issues that must be addressed. For example, the Department has issued supplemental questionnaires requesting additional information concerning the bona fides of the sales under review, as well as supplemental questions regarding labor factors and other factors. Given the issues in this case, the Department may find it necessary to issue additional supplemental questionnaires in these new shipper reviews. Therefore, in accordance with section 751(a)(2)(B)(iv) of the Act and section 351.214(i)(2) of the regulations, the Department is extending the time limit for the completion of the preliminary results to three hundred (300) days from the date of initiation. The preliminary results will now be due no later than August 28, 2003.

This notice is published pursuant to sections 751(a)(2)(B)(iv) and 777(i)(1) of the Act.

Dated: April 11, 2003.
Richard O. Weible,
Acting Deputy Assistant Secretary for Import Administration, Group III.

[FR Doc. 03-9514 Filed 4-16-03; 8:45 am]

BILLING CODE 3510-DS-P